DEPARTMENT OF DEFENSE

Department of the Air Force

Air Force Academy Board of Visitors Meeting

Pursuant to Section 9355, Title 10, United States Code, the Air Force Academy Board of Visitors will meet at the U.S. Air Force Academy, Colorado (CO), November 9-11, 2000. The purpose of the meeting is to consider morale and discipline, the curriculum instruction, physical equipment, fiscal affairs, academic methods, and other matters relating to the Academy.

A portion of the meeting will be open to the public while other portions will be closed to the public to discuss matters listed in subsections (2), (4), and (6) of section 552b(c), title 5 United States Code. These closed sessions will include attendance at cadet training programs and discussions with cadets, military staff, and faculty officers involving personal information and opinion, the disclosure of which would result in a clearly unwarranted invasion of personal privacy. Closed sessions will also include executive sessions involving discussions of personal issues, financial topics, and information relating solely to internal personnel rules and practices of the Board of Visitors and the Academy. Closed sessions may also include proprietary information from sources outside the government. Meeting sessions will be held in various facilities throughout the cadet area.

For further information, contact Lt Col Wayne A. Schiefer or Ms Deborah Mercurio, Plans and Current Operations Division, HQ USAFA/XPO, 2304 Cadet Drive, Suite 300, USAF Academy, CO 80840-5002, 719-333-3933.

Janet A. Long,
Air Force Federal Register Liaison Officer.

[FR Doc. 00-23704 Filed 9-14-00; 8:45 am]

BILLING CODE 5001-05-U